FEDERAL TRADE COMMISSION

16 CFR Part 680

RIN 3084-AA96

Affiliate Marketing Rule

AGENCY: Federal Trade Commission (FTC).

ACTION: Extension of period to submit comments in response to notice of proposed rulemaking.

SUMMARY: In a Federal Register document published June 15, 2004, the FTC requested comment on a proposed rule that is required by Section 214(b) of the Fair and Accurate Credit Transactions Act of 2003 (FACT Act), with respect to entities subject to its jurisdiction under Section 621(a) of the Fair Credit Reporting Act (FCRA). Section 214(a) of the FACT Act amends the FCRA by adding a new section 624, which the proposed regulations implement by providing for consumer notice and an opportunity to prohibit affiliates from using certain information to make or send marketing solicitations to the consumer. The Commission is extending its comment period until August 16, 2004.

DATES: Comments addressing the proposed Affiliate Marketing Rule must be submitted on or before August 16, 2004.

ADDRESSES: Interested parties are invited to submit written comments. Comments should refer to “FACT Act Affiliate Marketing Rule, Matter No. R411006” to facilitate the organization of comments. A comment filed in paper form should include this reference both in the text and on the envelope, and should be mailed or delivered to: Federal Trade Commission, Office of the Secretary, Room H-159 (Annex Q), 600 Pennsylvania Avenue, NW., Washington, DC 20580. Comments containing confidential material must be filed in paper form clearly labeled “Confidential,” and comply with Commission Rule 4.9(c), 16 CFR 4.9(c). Any comment filed in paper form should be sent by courier or overnight service, because U.S. postal mail in the Washington area and at the Commission is subject to delay due to heightened security precautions.

An electronic comment can be filed by (1) Clicking on http://www.regulations.gov; (2) selecting “Federal Trade Commission” at “Search for Open Regulations;” (3) locating the summary of this Notice; (4) clicking on “Submit a Comment on this Regulation;” and (5) completing the form. For a given electronic comment, any information placed in the following fields—“Title,” “First Name,” “Last Name,” “Organization Name,” “State,” “Comment,” and “Attachment”—will be publicly available on the FTC Web site. The fields marked with an asterisk on the form are required in order for the FTC to fully consider a particular comment. Commenters may choose not to fill in one or more of those fields, but if they do so, their comments may not be considered.

Comments on any proposed filing, recordkeeping, or disclosure requirements that are subject to paperwork burden review under the Paperwork Reduction Act should additionally be submitted to: Office of Information and Regulatory Affairs, Office of Management and Budget, Attention: Desk Officer for Federal Trade Commission. Comments should be submitted via facsimile to (202) 395-6974 because U.S. postal mail at the Office of Management and Budget is subject to lengthy delays due to heightened security precautions. Such comments should also be sent to the following address: Federal Trade Commission/Office of the Secretary, Room H-159 (Annex Q), 600 Pennsylvania Avenue, NW., Washington, DC 20580.

The FTC Act and other laws the Commission administers permit the collection of public comments to consider and use in this proceeding as appropriate. All timely and responsive public comments, whether filed in paper or electronic form, will be considered by the Commission, and will be available to the public on the FTC Web site at http://www.ftc.gov to the extent practicable. As a matter of discretion, the FTC makes every effort to remove home contact information for individuals from the public comments it receives before placing those comments on the FTC Web site. More information, including routine uses permitted by the Privacy Act, may be found in the FTC's privacy policy, at http://www.ftc.gov/ftc/privacy.htm.

FOR FURTHER INFORMATION CONTACT: Toby M. Levin and Loretta Garrison, Attorneys, (202) 326-3224, Division of Financial Practices, Federal Trade Commission, 601 New Jersey Avenue, NW., Washington, DC 20580.

SUPPLEMENTARY INFORMATION: Section 214 of the FACT Act requires the Office of the Comptroller of the Currency, Board of Governors of the Federal Reserve System, Federal Deposit Insurance Corporation, Office of Thrift Supervision, National Credit Union Administration, Securities and Exchange Commission, and FTC (collectively, “the Agencies”) to issue coordinated regulations that implement a new section 624 of the FCRA that gives consumers the right to restrict companies from using certain information obtained from an affiliate to make marketing solicitations.

On June 15, 2004 the Commission published a notice of proposed rulemaking and invited comment on the proposed rule, setting July 20, 2004, as the deadline for comments. The other agencies charged with rulemaking under FCRA Section 624 have published their notices of proposed rulemaking more recently, and have set later deadlines for receiving comments. The FTC has determined to extend its deadline for comments to August 16, 2004. This extension may encourage additional comment on the various proposals, and will facilitate the Agencies' coordinated analysis of comments received on the rulemaking.

By direction of the Commission.
Donald S. Clark,
Secretary.

[FR Doc. 04-16619 Filed 7-20-04; 8:45 am]

BILLING CODE 6750-01-P